DEPARTMENT OF THE INTERIOR

Office of the Special Trustee for American Indians

25 CFR Part 1200

RIN 1035-AA05

American Indian Trust Fund Management Reform Act; Technical Amendments

AGENCY: Office of the Special Trustee for American Indians, Interior.

ACTION: Final Rule.

SUMMARY: The Office of the Special Trustee for American Indians (OST) is revising its regulations to update references to agency names, addresses, and position titles. This action is editorial in nature and is intended to improve the accuracy and clarity of the OST's regulations.

DATES: Effective Date: March 28, 2006.

FOR FURTHER INFORMATION CONTACT: Lorie Curtis, Office of Trust Regulations, Policies and Procedures, Office of the Special Trustee for American Indians, 4400 Masthead Street NE., Albuquerque, New Mexico 87109; phone 505-816-1086; facsimile 505-816-1377.

SUPPLEMENTARY INFORMATION: The regulations promulgated by the Department of the Interior in 25 CFR part 1200 describe, among other things, the processes by which Indian tribes can manage tribal funds currently held in trust by the United States under the American Indian Trust Fund Management Reform Act. The regulations contain references to organizations, positions, and addresses that changed in 2003. We are updating these regulations to correct the references and to make other minor editorial changes to improve clarity.

Determination To Issue a Final Rule

The Department has determined that the public notice and comment provisions of the Administrative Procedure Act, 5 U.S.C. 553(b), do not apply because of the good cause exception under 5 U.S.C. 553(b)(3)(B), which allows the agency to suspend the notice and public procedure when the agency finds for good cause that those requirements are impractical, unnecessary and contrary to the public interest. Because this amendment makes only minor editorial changes, no public comment is necessary.

Determination To Make Rule Effective Immediately

Because this amendment makes only minor editorial changes, the Department has determined it appropriate to make the rule effective immediately by waiving the requirement of publication 30 days in advance of the effective date found at 5 U.S.C. 553(d). It is in the public interest and in the interest of the Indian tribes not to delay implementation of this amendment. Accordingly, this amendment is issued as a final rule effective immediately.

Compliance With Laws and Executive Orders

The Department has determined that this rule complies with all requirements of the following laws and Executive Orders:

(1) Executive Order 12866 (Regulatory Planning and Review);

(2) Regulatory Flexibility Act (5 U.S.C. 601, et seq.);

(3) Small Business Regulatory Enforcement Fairness Act (5 U.S.C. 804(2));

(4) Unfunded Mandates Reform Act (2 U.S.C. 1531, et seq.);

(5) Executive Order 12630 (Takings);

(6) Executive Order 13132 (Federalism);

(7) Executive Order 12988 (Civil Justice Reform);

(8) Executive Order 13175 (Consultation with Indian tribes);

(9) Paperwork Reduction Act (44 U.S.C. 3501, et seq.); and

(10) National Environmental Policy Act (42 U.S.C. 4321-4347).

List of Subjects in 25 CFR Part 1200

Indians, Trusts and trustees, Trust funds.

Dated: February 27, 2006.
Ross O. Swimmer,
Special Trustee for American Indians.

For the reasons set forth in the preamble, part 1200 of title 25 of the Code of Federal Regulations is amended as follows:

PART 1200—AMERICAN INDIAN TRUST FUND MANAGEMENT REFORM ACT

1. The authority for part 1200 continues to read as follows:

Authority: 25 U.S.C. 4001.

2. Section 1200.2 is amended by:

A. Removing the definition of “Area Director”;

B. Removing the definition of “OTFM”; and

C. Adding in alphabetical order a definition of “Fiduciary Trust Officer” and “Regional Director” to read as follows:

§ 1200.2 Definitions.

* * * * *

Fiduciary Trust Officer means the designated OST official at the agency or regional office.

* * * * *

Regional Director means the Bureau of Indian Affairs official in charge of a Regional Office.

* * * * *

3. Revise § 1200.6 to read as follows:

§ 1200.6 How could a tribe receive future income directly rather than have the government continue to collect it?

If a tribe wishes to receive future income directly, the tribe may contact a Fiduciary Trust Officer located at the agency or regional office.

4. Section 1200.7 is amended by:

A. Redesignating the three sentences in the section as paragraphs (a), (b), and (c); and

B. Revising redesignated paragraph (a) to read as follows:

§ 1200.7 Information collection.

(a) The information collection requirements contained in subpart B of this part have been approved by the Office of Management and Budget under 44 U.S.C. 3507 et seq., and assigned OMB Control Number 1035-0003. Information is also collected in subpart D through the use of the following standard forms:

(1) SF 424, Application for Federal Assistance, OMB Control Number 0348-0043; and

(2) SF 424A, Budget Information, OMB Control Number 0348-0044.

* * * * *

5. In § 1200.13, the first and third sentences are revised to read as follows:

§ 1200.13 How does a tribe apply to withdraw funds?

To withdraw funds, a tribe must submit four copies of its application and the attachments listed in this section to: Director, Office of External Affairs, Office of the Special Trustee for American Indians, Department of the Interior, MS-5140, 1849 C Street NW., Washington, DC 20240. * * * When we determine that the application is complete, we will send copies to the appropriate agency superintendent and regional director, and to the Special Trustee and the Solicitor. * * *

* * * * *

6. Section 1200.14 is amended by removing paragraphs (j)(1) and (j)(2) and revising paragraph (j) to read as follows:

§ 1200.14 What must the Tribal Management Plan contain?

* * * * *

(j) A tribal council agreement to provide an annual audit and report on performance of withdrawn funds to the tribal membership. The agreement must include a description of the steps (including audit performance and reporting) the tribe will take to ensure its membership that the tribe is continuing to comply with the terms of the plan submitted and approved pursuant to judgment fund limitations (if any) and/or the terms of the Act.

* * * * *

§ 1200.15 [Amended]

7. Amend 1200.15(b) by removing the word “area” and adding the word “regional” in its place.

[FR Doc. 06-2976 Filed 3-27-06; 8:45 am]

BILLING CODE 4310-2W-P